DEPARTMENT OF COMMERCE

International Trade Administration

[C-570-054]

Certain Aluminum Foil From the People's Republic of China: Final Results of the Expedited First Sunset Review of the Countervailing Duty Order

AGENCY: Enforcement and Compliance, International Trade Administration, Department of Commerce.

SUMMARY: As a result of this expedited sunset review, the U.S. Department of Commerce (Commerce) finds that revocation of the countervailing duty order on certain aluminum foil (aluminum foil) from the People's Republic of China (China) would be likely to lead to continuation or recurrence of countervailable subsidies at the levels as indicated in the “Final Results of Sunset Review” section of this notice.

DATES: Applicable June 28, 2023.

FOR FURTHER INFORMATION CONTACT: Harrison Tanchuck, AD/CVD Operations, Office VI, Enforcement and Compliance, International Trade Administration, U.S. Department of Commerce, 1401 Constitution Avenue NW, Washington, DC 20230; telephone: (202) 482-7421.

SUPPLEMENTARY INFORMATION:

Background

On March 1, 2023, Commerce published the notice of initiation of the first sunset review of the Order,¹ pursuant to section 751(c) of the Tariff Act of 1930, as amended (the Act).² Commerce received a notice of intent to participate from Aluminum Association Trade Enforcement Working Group and its individual members Gränges Americas Inc.; JW Aluminum Company; Novelis Corporation; and Reynolds Consumer Products, LLC (collectively, domestic interested parties) within the deadline specified in 19 CFR 351.218(d)(1)(i).³ Each claimed interested party status under section 771(9)(C) of the Act as domestic producers engaged in the production in the United States of aluminum foil.

¹ See Certain Aluminum Foil from the People's Republic of China: Amended Final Affirmative Countervailing Duty Determination and Countervailing Duty Order, 83 FR 17360 (April 19, 2018) (Aluminum Foil from China Amended Final Determination and Order); see also Certain Aluminum Foil from the People's Republic of China: Notice of Court Decision Not in Harmony With the Amended Final Determination in the Countervailing Duty Investigation, and Notice of Amended Final Determination and Amended Countervailing Duty Order, 85 FR 47730 (August 6, 2020) (Aluminum Foil from China Second Amended Final Determination and Amended Order) (collectively, the Order).

² See Initiation of Five-Year (Sunset) Review, 88 FR 12915 (March 1, 2023).

³ See Domestic Interested Parties' Letter, “Domestic Interested Parties' Notice of Intent to Participate,” dated March 9, 2023.

Commerce received a substantive response from the domestic interested parties within the 30-day deadline specified in 19 CFR 351.218(d)(3)(i).⁴ We did not receive a substantive response from any other interested party in these proceedings, and no party requested a hearing.

⁴ See Domestic Interested Parties' Letter, “Domestic Interested Parties' Substantive Response,” dated March 31, 2023.

On April 20, 2023, Commerce notified the U.S. International Trade Commission that it did not receive an adequate substantive response from respondent interested parties.⁵ As a result, pursuant to section 751(c)(3)(B) of the Act and 19 CFR 351.218(e)(1)(ii)(C)(2), Commerce conducted expedited (120-day) sunset reviews of the Order.

⁵ See Commerce's Letter, “Sunset Reviews Initiated on March 1, 2023,” dated April 20, 2023.

Scope of the Order

The product covered by the Order is aluminum foil. For a complete description of the scope of this order, see the Issues and Decision Memorandum.⁶

⁶ See Memorandum, “Issues and Decision Memorandum for the Expedited First Sunset Review of the Countervailing Duty Order of Certain Aluminum Foil from the People's Republic of China,” dated concurrently with, and hereby adopted by, this notice (Issues and Decision Memorandum).

Analysis of Comments Received

All issues raised in this sunset review are addressed in the Issues and Decision Memorandum, including the likelihood of continuation or recurrence of countervailable subsidies and the net countervailable subsidy likely to prevail if the Order were revoked.⁷ The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://access.trade.gov/public/FRNoticesListLayout.aspx.

⁷ Id.

Final Results of Sunset Review

Pursuant to sections 751(c)(1) and 752(b) of the Act, Commerce determines that revocation of the Order would be likely to lead to the continuation or recurrence of countervailable subsidies at the following rates:

Producer/Exporter | Subsidy rate (percent ad valorem)
Dingsheng Aluminum Industries (Hong Kong) Trading Co., Ltd.⁸ | 54.35
Jiangsu Zhongji Lamination Materials Co., Ltd.⁹ | 40.71
Loften Aluminum (Hong Kong) Limited | 114.77
Manakin Industries, LLC ¹⁰ | 114.77
All Others | 47.53

Administrative Protective Order

⁸ See Countervailing Duty Investigation of Certain Aluminum Foil from the People's Republic of China: Final Affirmative Determination, 83 FR 9274 (March 5, 2018) (Aluminum Foil from China Final Determination). In Aluminum Foil from China Final Determination, Commerce found the following companies to be cross-owned with Dingsheng Aluminum Industries (Hong Kong) Trading Co., Ltd.: Jiangsu Dingsheng New Materials Joint-Stock Co., Ltd.; Hangzhou Teemful Aluminum Co., Ltd.; Hangzhou Five Star Aluminum Co., Ltd.; Hangzhou DingCheng Aluminum Co., Ltd.; Luoyang Longding Aluminum Co., Ltd.; Hangzhou Dingsheng Industrial Group Co., Ltd.; Hangzhou Dingsheng Import & Export Co., Ltd.; and Walson (HK) Trading Co., Limited. Aluminum Foil from China Amended Final Determination and Order and Aluminum Foil from China Second Amended Final Determination and Amended Order made no changes to Dingsheng Aluminum Industries (Hong Kong) Trading Co., Ltd.'s cross-owned companies as described in Aluminum Foil from China Final Determination. The subsidy rate applies to all cross-owned companies.

⁹ In Aluminum Foil from China Final Determination, Commerce found the following companies to be cross-owned with Jiangsu Zhongji Lamination Materials Co., Ltd.: Shantou Wanshun Package Material Stock Co., Ltd.; Jiangsu Huafeng Aluminum Industry Co., Ltd.; and Jiangsu Zhongji Lamination Materials Co., (HK) Ltd. Aluminum Foil from China Amended Final Determination and Order and Aluminum Foil from China Second Amended Final Determination and Amended Order made no changes to Jiangsu Zhongji Lamination Materials Co., Ltd.'s cross-owned companies as described in Aluminum Foil from China Final Determination; see also Certain Aluminum Foil from the People's Republic of China: Final Results of the Countervailing Duty Administrative Review; 2017-2018, 86 FR 12171 (March 2, 2021) (Aluminum Foil from China AR 2017-18 Final Results) and accompanying Issue and Decision Memorandum at footnote 10. In Aluminum Foil from China AR 2017-18 Final Results, there were changes to Jiangsu Zhongji's cross-owned companies from Aluminum Foil from China Final Determination, “As discussed in the Preliminary Decision Memorandum, Commerce has found the following companies to be cross-owned with Jiangsu Zhongji Lamination Materials Co., Ltd.: Jiangsu Zhongji Lamination Materials Co., (HK) Ltd. (Zhongji HK); Jiangsu Huafeng Aluminum Industry Co. Ltd. (Jiangsu Huafeng); Shantou Wanshun Material Stock Co., Ltd. (Shantou Wanshun); and Anhui Maximum Aluminum Industries Company Limited (Anhui Maximum).” The subsidy rate applies to all cross-owned companies.

¹⁰ In Aluminum Foil from China Final Determination, Commerce found that Manakin Industries, LLC and Suzhou Manakin Aluminum Processing Technology Co., Ltd. (Suzhou Manakin), effectively function by joint operation as a trading company. Therefore, the subsidy rate for Manakin Industries, LLC also applies to Suzhou Manakin. Aluminum Foil from China Amended Final Determination and Order and Aluminum Foil from China Second Amended Final Determination and Amended Order made no changes to the determination that Manakin Industries, LLC and Suzhou Manakin effectively operate as a joint operation as a trading company, and therefore should receive the same rate, as described in Aluminum Foil from China Final Determination.

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing this notice in accordance with sections 751(c), 752(b), and 777(i)(1) of the Act, and 19 CFR 351.218.

Dated: June 21, 2023.
James Maeder,
Deputy Assistant Secretary for Antidumping and Countervailing Duty Operations.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Review

VIII. Recommendation

IX. Appendix: Calculation of Net Countervailable Subsidy Rates Likely to Prevail

[FR Doc. 2023-13671 Filed 6-27-23; 8:45 am]

BILLING CODE 3510-DS-P